DEPARTMENT OF HEALTH AND HUMAN SERVICES

Administration for Community Living

Notice of Intent To Award a Single-Source Non-Competing Continuation Application to the University of Minnesota for an Additional 12 Months

SUMMARY: The Administration for Community Living (ACL) recently announced the awarding of the University of Minnesota to the Residential Information System Project (RISP). The University of Minnesota will maintain and continue the longitudinal study of annual state-by-state and national statistics on residential services and supports for people with intellectual and developmental disabilities.

SUPPLEMENTARY INFORMATION:

Program Name: Residential Information Systems Project.

Award Amount: $350,000.00.

Statutory Authority: The Developmental Disabilities and Bill of Rights Act of 2000.

Catalog of Federal Domestic Assistance (CFDA) Number: 93.631.

Program Description: The Administration on Developmental and Intellectual Disabilities, an agency of the U.S. Administration for Community Living, has been funding the RISP for thirty-five years. The project's activities include: Utilizing a large multistate database on individuals with developmental disabilities to examine the associations between personal characteristics, housing, financing and support models, state systems on inclusion, self-determination, satisfaction, and outcomes; conducting state policy and program surveys on key topics in residential and other community services; maintaining a clearinghouse of information and resources on consumer-controlled housing, the direct support workforce, and community living outcomes; collaborating with the University of Massachusetts and the University of Colorado to show targeted current year and longitudinal data on the project Web site and providing a create-a-chart option allowing reports to be customized. The comparative nationwide longitudinal study of the residential settings where people with Intellectual and Developmental Disabilities and supports is a forty year body of work.

Agency Contact: For further information or comments regarding this supplemental action, contact Katherine Cargill-Willis, U.S. Department of Health and Human Services, Administration for Community Living, Administration on Intellectual and Developmental Disabilities, 330 C Street SW., Washington, DC 20201; telephone 202-795-7322; email katherine.cargill-willis@acl.hhs.gov.

Dated: July 17, 2017.
Mary Lazare,
Acting Administrator and Assistant Secretary for Aging.

[FR Doc. 2017-15661 Filed 7-25-17; 8:45 am]

BILLING CODE 4154-01-P